DEPARTMENT OF LABOR

Employment and Training Administration

[NAFTA-5485]

Welcast Plastics, Harris Welco, J.W. Harris Co., Inc., Barberton, OH; Notice of Termination of Investigation

Pursuant to Title V of the North American Free Trade Agreement Implementation Act (Pub. L. 103-182) concerning transitional adjustment assistance, hereinafter called (NAFTA-TAA), and in accordance with section 250(a), subchapter D, chapter 2, title II, of the Trade Act of 1974, as amended (19 U.S.C. 2273), an investigation was initiated on October 29, 2001 in response to a petition filed by a company official on behalf of workers at Welcast Plastics, Harris Welco Division, J.W. Harris Company, Inc., Barberton, Ohio.

This case is being terminated upon the petitioner's request. Consequently, further investigation in this case would serve no purpose, and the investigation has been terminated.

Signed at Washington, DC, this 9th day of November, 2001.
Linda G. Poole,
Certifying Officer, Division of Trade Adjustment Assistance.

[FR Doc. 01-29752 Filed 11-29-01; 8:45 am]

BILLING CODE 4510-30-M